COMMITTEE FOR PURCHASE FROM PEOPLE WHO ARE BLIND OR SEVERELY DISABLED

Procurement List: Proposed Additions

AGENCY: Committee for Purchase From People Who Are Blind or Severely Disabled.

ACTION: Proposed additions to Procurement List.

SUMMARY: The Committee is proposing to add to the Procurement List services to be furnished by nonprofit agencies employing persons who are blind or have other severe disabilities.

COMMENTS MUST BE RECEIVED ON OR BEFORE: June 18, 2001.

ADDRESSES: Committee for Purchase From People Who Are Blind or Severely Disabled, Jefferson Plaza 2, Suite 10800, 1421 Jefferson Davis Highway, Arlington, Virginia 22202-3259.

FOR FURTHER INFORMATION CONTACT: Patrick T. Mooney (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Services

Janitorial/Custodial

Naval & Marine Corps Reserve Center (NMCRC), 1201 N. 35th Avenue, Phoenix, Arizona

NPA: The Centers for Habilitation/TCH, Tempe, Arizona

Janitorial/Custodial

At the following U.S. Army Reserve Center Locations:

Brandt Memorial USARC, Baltimore, Maryland

Fleming Goodwin USARC, Dover, Delaware

Cape Henlopen USARC, Lewes, Delaware

Annapolis USARC, Annapolis, Maryland

Sheridan USARC, Baltimore, Maryland

Jachman USARC, Owings Mills, Maryland

AMSA 83 Curtis Bay, Baltimore, Maryland

Jecelin USARC, Baltimore, Maryland

NPA: CHI Centers, Inc., Silver Spring, Maryland

Janitorial/Custodial

Bombay Hook National Wildlife Refuge, Smyrna, Delaware

NPA: The Chimes, Inc., Baltimore, Maryland

Janitorial/Custodial

St. John's Border Station, Route 9B, New York

NPA: Clinton County Chapter, NYSARC, Inc., Plattsburgh, New York

Janitorial/Custodial

Social Security Administration, Trust Fund Building, Chambersburg, Pennsylvania

NPA: Goodwill Services, Inc., Harrisburg, Pennsylvania

Janitorial/Custodial

Naval and Marine Corps Reserve Center, Milwaukee, Wisconsin

NPA: Milwaukee Center for Independence, Inc., Milwaukee, Wisconsin

Patrick T. Mooney,
Director, Pricing and Program Operations.

[FR Doc. 01-12599 Filed 5-17-01; 8:45 am]

BILLING CODE 6353-01-P